DEPARTMENT OF ENERGY

Federal Energy Regulatory Commission

[Docket No. CP13-499-000]

Constitution Pipeline; Company, LLC; Notice Rejecting Request for Emergency Motion for Suspension of Non-Mechanical Tree Felling

On February 25, 2016, Megan Holleran filed an emergency motion pursuant to Rule 212 of the Commission's Rules of Practice and Procedure ¹ requesting that the Commission require Constitution Pipeline Company, LLC (Constitution) to suspend all non-mechanical tree felling activities on her family's Pennsylvania property ² pending review of a federal court order (attached to the motion as Exhibit B) in an eminent domain proceeding enjoining certain protest activities. Ms. Holleran asserts that the court order has the effect of expanding the easement area for tree felling beyond the boundaries approved by the Commission and provides a basis for the Commission to reconsider the effects of tree felling activities and/or its issuance of a Certificate of Public Convenience and Necessity to Constitution.

¹ 18 CFR 385.212 (2015).

² On January 29, 2016, Constitution was granted a partial notice to proceed with limited non-mechanical tree felling in Pennsylvania. Constitution Pipeline Co., LLC, Docket No. CP13-499-000 (January 29, 2016) (delegated letter order).

Issues related to the acquisition of property rights by a pipeline under the eminent domain provisions of section 7(h) of the NGA are matters for the applicable state or federal court. Since the Commission has no responsibility or jurisdiction over these matters, the subject motion is rejected.

This notice constitutes final agency action. Requests for rehearing by the Commission of this notice must be filed within 30 days of its issuance, as provided in section 19(a) of the Natural Gas Act,³ and the Commission's Rules of Practice and Procedure.⁴

³ 15 U.S.C. 717r (2012).

⁴ 18 CFR 385.713 (2015).

Dated: March 1, 2016.
Nathaniel J. Davis, Sr.,
Deputy Secretary.

[FR Doc. 2016-04953 Filed 3-4-16; 8:45 am]

BILLING CODE 6717-01-P